DEPARTMENT OF TRANSPORTATION

Office of the Secretary of Transportation

[Docket No. DOT-OST-2015-0139]

Proposed Agency Information Collection Request; Vendor Invoice Submission Pilot

AGENCY: U.S. Department of Transportation (DOT).

ACTION: Notice with request for comments.

SUMMARY: The DOT invites the public and other Federal agencies to comment on a proposed information collection request concerning a pilot program to evaluate new processes and procedures for vendor invoice submission. DOT will submit the proposed information collection request to the Office of Management and Budget (OMB) for review, as required by the Paperwork Reduction Act of 1995 (PRA) (44 U.S.C. 3506 (c)(2)(A)). This notice sets forth new processes and procedures for vendors that submit invoices and receive payments from DOT Operating Administrations (OAs). DOT's objective is to improve efficiency and reduce manual processing through the use of electronic invoicing for vendors. This electronic invoicing process is currently used by DOT's grantee community and the Department and would like to pilot an automated invoicing process utilized by DOT grantees that would allow invoices to be submitted electronically. Automating and simplifying the DOT vendor payment process will save both the vendor and the Federal Government time and expense that come with paper-based invoice submission and payment administration.

DATES: Comments must be submitted on or before December 28, 2015.

FOR FURTHER INFORMATION CONTACT: Requests for additional information should be directed to US Department of Transportation, Office of Financial Management, B-30, Room W93-431, 1200 New Jersey Avenue SE., Washington DC 20590-0001, Gayle Sienicki (202) 366-0448, DOTElectronicInvoicing@dot.gov.

SUPPLEMENTARY INFORMATION:

Title: Notice of Procedures for Vendor Invoice Submission Pilot.

OMB Control Number: 2105-0139.

Type of Request: New information collection.

Background: This notice sets forth new processes and procedures for vendors that submit invoices and receive payments from DOT Operating Administrations (OAs). The vendors involved in the pilot must meet the following requirements to participate—

• Vendors will need to have electronic internet access to register in the Delphi eInvoicing system.

• Vendors will submit invoices electronically and DOT OAs must process invoices electronically.

• The identities of system users must be verified prior to receiving access to the Delphi eInvoicing system. Prospective Users must complete a user request form and provide the following information: full name, work address, work phone number, work email address, home address and home phone number. Prospective users must present the completed form to a Notary Public for verification. Prospective users will then return the notarized form to DOT to receive their login credentials.

Affected Public: DOT Vendors.

Total Estimated Number of Respondents: 255.

Total Estimated Number of Responses: 2603.

Estimated Total Annual Burden Hours: 5206 (initial registration only).

Frequency of Collection: One time.

Annual Estimated Total Annual Burden Costs: $52,060.

ADDRESSES: Send comments regarding the burden estimate, including suggestions for reducing the burden, to US Department of Transportation, Office of Financial Management, B-30, Room W93-431, 1200 New Jersey Avenue SE., Washington DC 20590-0001, Gayle Sienicki (202) 366-0448, DOTElectronicInvoicing@dot.gov.

Comments: Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995, 44 U.S.C. 3501-3520, as amended.

Issued in Washington, DC, on October 22, 2015.
David Rivait,
Deputy Chief Financial Officer, Department of Transportation.

[FR Doc. 2015-27577 Filed 10-28-15; 8:45 am]

BILLING CODE 4910-9X-P